DEPARTMENT OF COMMERCE

National Oceanic and Atmospheric Administration

[Docket No. 021218316-2316-01; I.D. 111402A]

RIN 0648-ZB37

Financial Assistance for Research and Development Projects in Chesapeake Bay to Strengthen, Develop and/or Improve the Stock Conditions of the Chesapeake Bay Fisheries

AGENCY: National Marine Fisheries Service (NMFS), National Oceanic and Atmospheric Administration (NOAA), Department of Commerce.

ACTION: Notice of availability of funds.

SUMMARY: A total of up to $1,500,000 in Fiscal Year (FY) 2003 funds is anticipated to be made available by Congress through the NOAA Chesapeake Bay Office to assist in carrying out research and development projects that address various aspects of Chesapeake Bay fisheries (commercial and recreational), including coastal and estuarine research, monitoring, modeling, and assessment; fisheries research and stock assessments; data management; and, multiple species interactions through cooperative agreements. About $800,000 of the base amount is available to initiate new projects in FY 2003, as described in this announcement. It is the intent of the NOAA Chesapeake Bay Office to continue with several existing relationships and to make awards through this program for currently funded multiple year projects pending acceptable scientific review. NMFS issues this document to set forth instructions on how to apply for financial assistance, and how NMFS will determine which applications will be selected for funding.

DATES: Applications for funding under this program must be received by 5 p.m. eastern standard time on March 17, 2003. Applications received after that time will not be considered for funding. Applications will not be accepted electronically nor by facsimile machine submission.

ADDRESSES: You can obtain an application package from, and send completed applications to: Derek Orner, National Marine Fisheries Service, NOAA Chesapeake Bay Office, 410 Severn Avenue, Suite 107A, Annapolis, MD 21403. You can also obtain the application package from the Chesapeake Bay Fisheries Research Program Home Page http://noaa.chesapeakebay.net/fisheries.

FOR FURTHER INFORMATION CONTACT: Derek Orner, National Marine Fisheries Service, NOAA Chesapeake Bay Office, 410/267-5660; or e-mail: derek.orner@noaa.gov.

SUPPLEMENTARY INFORMATION:

I. Introduction

A. Authority. The Fish and Wildlife Act of 1956, as amended, at 16 U.S.C. 753a, authorizes the Secretary of Commerce (Secretary), for the purpose of developing adequate, coordinated, cooperative research and training programs for fish and wildlife resources, to continue to enter into cooperative agreements with colleges and universities, with game and fish departments of the several states, and with non-profit organizations relating to cooperative research units. The Secretary of Commerce is authorized under the Fish and Wildlife Coordination Act, 16 U.S.C. 661-666c, to provide assistance to, and cooperate with, Federal, State, and public or private agencies and organizations in the development, protection, rearing, and stocking of fisheries, resources thereof, and for fisheries habitat restoration. This announcement is subject to the availability of funding under the Departments of Commerce (DOC), Justice, State, the Judiciary, and Related Agencies Appropriations Act of 2003 which makes funds available to the Secretary.

B. Catalog of Federal Assistance (CFDA). The Chesapeake Bay Fisheries Research Program is listed in the “Catalog of Federal Domestic Assistance” under number 11.457, entitled Chesapeake Bay Studies.

C. Program Description. The Chesapeake Bay Stock Assessment Committee (CBSAC) was established in 1985 to plan and review Baywide resource assessments, coordinate relevant actions of state and Federal agencies, report on fisheries status and trends, and determine, fund and review research projects. The program implements a Baywide plan for the assessment of commercially, recreationally, and selected ecologically important species in the Chesapeake Bay. In 1988, CBSAC developed a Baywide Stock Assessment Plan, in response to provisions in the Chesapeake Bay Agreement of 1987. The Plan identified that key obstacles to assessing Bay stocks was the lack of consistent, Baywide, fishery-dependent and fishery-independent data. Research projects funded since 1988 have focused on developing and improving fishery-independent surveys and catch statistics for key Bay species, such as striped bass, oysters, blue crabs and alosids. Stock assessment research is essential, given the recent declines in harvest and apparent stock condition for many of the important species of the Chesapeake Bay. The Fisheries Steering Committee was established in 2001 to guide the various Chesapeake Bay fisheries' issues including management and research.

II. Funding Priorities

Proposals should exhibit familiarity with related work that is completed or ongoing. Where appropriate, proposals should be multi-disciplinary. Coordinated efforts involving multiple eligible applicants or persons are encouraged. Proposals must address one of the priorities listed here. If the proposal addresses more than one priority, it should list first on the application the priority that most closely reflects the objective of the proposals.

(A) Stock Assessment Research - Consideration for funding will be given to applications that address the following stock assessment research and management priorities for the Chesapeake Bay. These priorities are not listed in any particular order:

(1) Assessments of the abundance, productivity, distribution, and exploitation patterns of important Chesapeake Bay finfish and shellfish resources. Proposals may include research on life history characteristics, larval dynamics, stock-recruitment relationships, and schedules of vital rates. Descriptions of stock structure, demographics and spatial distribution would also be appropriate. It is anticipated that proposals will combine analyses of existing fishery-dependent and fishery-independent data.

(2) Development and/or implementation of a program to provide a reliable data base for estimating the impact of recreational fishing on living marine resources in Chesapeake Bay. Projects should:

a. Conduct a review of any work previously conducted on the development of methods for conducting a Baywide recreational survey;

b. Implement on a Baywide scale based on earlier work (if applicable);

c. Provide reliable estimates of recreational catch, fishing effort, catch rates, size composition, and sex ratios for all components of the recreational fishery.

(3) Blue Crab Stock Assessment Analyses

a. Stock assessment of blue crab in Chesapeake Bay has been hampered by inadequate fishery data. Because of this shortcoming, previous assessments/analyses were conducted using less data intensive techniques. Based on activities in part funded through this program in recent years, there is a need and a capability to more formally assess the status of this important resource. Proposals addressing this priority should expect for the final report to undergo a stock assessment review similar to that utilized by the NMFS - Northeast Science Center's SAW/SARC process.

b. Managing a fishery as complicated as the blue crab is difficult and with the blue crab maintaining its dominance in Chesapeake Bay fisheries, it is critical to understand/determine whether management approaches introduced by the Bay states are beneficial to the fishery or if there are potentially other alternatives. There is also a need to compare the management approaches across the states to explore the bi-state management of the resource.

c. Design and develop an integrated Baywide blue crab mark and recapture study that will provide information on growth, natural mortality, fishing mortality, size selectivity, catchability, reporting rates and the distribution of harvest among the fisheries. Results should be informative with respect to the reproductive frequency of female crabs, and longevity.

(4) Improvement or implementation of the collection of fishery-dependent data within Chesapeake Bay. Projects can involve either the commercial and/or recreational components of the fishery. Projects should focus on collecting biological data (size, sex, age, diet), and catch and effort data from Baywide harvests of significant finfish and shellfish fisheries to provide accurate, statistically representative information on the spatial and temporal characteristics of the harvest. Proposals may involve designs for port-sampling of landings, or on-board analysis of the catch, analysis of intercepts and telephone surveys. Proposals that document information on by-catch and discard mortality would be relevant and are encouraged.

The proposals should recognize current efforts to collect biological data from Bay fisheries and attempt to define the optimal, regional (Maryland, Potomac River Fisheries Commission, and Virginia jurisdictions) sampling program.

(5) Improvement and/or implementation of Chesapeake Bay fisheries database tools (including oracle database systems and web-based public access) for the various fishery-dependent and fishery-independent data currently and historically available in Chesapeake Bay. This activity should not be limited to only gaining access to current or historically available data to make it more accessible, but also to mining this data to develop indices of relative abundance where applicable. Proposals are encouraged to coordinate with the Atlantic Coastal Cooperative Statistics Program (ACCSP) and/or the Northeast Area Monitoring Assessment Program (NEAMAP) activities.

(B) Multispecies Management and Research - The Chesapeake Bay is a complex and dynamic ecosystem that supports many fisheries that are economically important both regionally and nationally. To date, these resources have been managed on a single species basis. While the single species approach has served us well, the existence of both biological and technical (by-catch) interactions in most Chesapeake Bay fisheries point to the need to move toward a wider, multispecies perspective. This viewpoint was wholeheartedly endorsed at a workshop of regional, national and international scientists held to address the potential utility of multispecies approaches to fisheries management in the Chesapeake Bay (STAC Publication 98-002, www.chesapeake.org). The ultimate objective of this research and monitoring is to lead to the development of an ecosystem plan for Chesapeake Bay fisheries, within which the rational exploitation of individual species can be determined.

Consideration for funding will be given to applications that address the following multispecies management and research priorities for the Chesapeake Bay. Priorities are not listed in any implied order:

(1) Fishery-independent Surveys. Plan, develop and conduct coordinated Baywide surveys to regularly estimate species abundances, trends and biological characteristics (e.g., age/size structure, recruitments, growth and mortality rates, food habitats) for economically and ecologically important key species. Proposals within this task should:

a. Review and assess existing fishery independent sampling programs conducted by regional agencies to evaluate their potential applicability to the Chesapeake Bay. This may include evaluation of the use of fixed and random sampling protocols, with or without stratification, and the sampling characteristics of different gear types.

b. Develop and initiate a Baywide, coordinated, fishery-independent survey that may include multiple gear, such as benthic and midwater trawling, and hydroacoustics to characterize the status and trends in the abundance, distribution and characteristics of key Chesapeake Bay finfish and shellfish.

(2) Retrospective Analyzes. Document and quantify multispecies interactions among economically and ecologically important finfish and shellfish within the Chesapeake Bay. The proposed work should lead to the identification of the 'strong' interactions within the Chesapeake Bay fisheries system. Work may involve analysis of commercial and recreational catch and effort data, the analysis of the patterns of diets and energy flows within the fisheries system, or multivariate analyses of abundance relationships within the fisheries system and their relationship to environmental and habitat characteristics.

(3) Multispecies Assessment / Ecosystem Modeling. Apply and assess alternative multispecies fisheries models to the Chesapeake Bay fisheries systems. The submitted proposal should detail the development of a multispecies or ecosystem model focusing on core Chesapeake Bay species. Examples of possible approaches include, but are not limited to: multispecies biomass dynamic, multispecies yield per recruit, multispecies virtual population analysis, multispecies bioenergetics, spatial-physical predator-prey, trophic production and ecosystem simulation models. Model approaches should seek to predict constraints and patterns in the fisheries production of the Chesapeake Bay system.

(4) In an ecosystem-based approach to fisheries management, it is important to understand and develop reference points related to the total removals of the system to fully appreciate the impact those fishery removals have on food webs. All sources of removals to quantify the level of total removals to the Chesapeake Bay system should be identified and thresholds and sustainable levels of removals should be identified. This threshold should be an upper limit on the biomass of fish and shellfish that can be removed from Chesapeake Bay annually. Sustainable or target levels of removals should also be identified.

(C) Fisheries Ecosystem Plan (FEP) Research and Implementation - The NOAA Chesapeake Bay Office has initiated development of an FEP for Chesapeake Bay. An FEP is an umbrella document containing information on the structure and function of the ecosystem in which fishing activities occur, so that managers can be aware of the effects their decisions have on the ecosystem, and the effects other components of the ecosystem may have on fisheries. Development of FEPs for each major ecosystem was recommended by the NMFS-appointed Ecosystem Principles Advisory Panel which was formed under a mandate by the Sustainable Fisheries Act of 1996. (See the Panel's Report to Congress at: http://www.nmfs.noaa.gov/sfa/EPAPrpt.pdf.) The initial FEP will reflect the existing state of knowledge about the Chesapeake Bay ecosystem. Effective FEP implementation and ultimate success of the Bay's FEP initiative will require new research to characterize critical components of the ecosystem. The total value of the proposals selected for funding under this priority cannot exceed $100,000 of the base amount. Priorities are not listed in any particular order.

(1) Design and implementation of surveys to identify habitats, spawning areas, and feeding grounds for significant Chesapeake Bay species.

(2) Promote a higher level of understanding of the relationships between fisheries, the ecosystem, society and the environment. Proposals may include:

a. Improving the understanding of the 'multiple pathways' that can affect managed species and members of their significant food webs. Pathways might include (but are not limited to): the effects of habitat degradation and restoration, influences of the spatial arrangement of habitats, effects of environmental fluctuations or climate change, and the impact of changes in predator-prey relationships.

b. Characterizing uncertainty in key parameters used to support fisheries management decisions. This should include the ability to show the risks associated with the estimated uncertainty.

c. Describing the social and economic drivers of both commercial and recreational sectors of the Chesapeake Bay fishing industry.

d. Determining the relevance of existing, or proposed, indicators of ecosystem health (especially to meet the objective of linking fisheries and human health to the supporting Chesapeake Bay ecosystem).

e. Development of a data management system for linking fisheries and habitat management in Chesapeake Bay. This integrated data management system should link information on habitat requirements, significant food webs, and management activities.

III. Funding

A. Funding Availability. This document describes how interested persons can apply for funding under the Chesapeake Bay Fisheries Research Program, and how funding decisions will be made.

This solicitation announces that funding of up to $1,500,000 may be available through the Chesapeake Bay Fisheries Research Program. It is the intent of the NOAA Chesapeake Bay Office to continue with several existing relationships and to make awards through this program for projects pending successful progress reports and review. Applicants are hereby given notice that funds have not yet been appropriated for this program. This announcement does not guarantee that sufficient funds will be available to make awards for all selected applications submitted under this program. The exact amount of funds that may be awarded will be determined in pre-award negotiations between the applicant and the NOAA representatives.

The Department of Commerce Pre-Award Notification of Requirements for Grants and Cooperative Agreements contained in the Federal Register notice of October 1, 2001 (66 FR 49917), as amended by the Federal Register notice published October 30, 2002 (67 FR 66109), is applicable to this solicitation.

B. Duration and Terms of Funding. Under this solicitation, NCBO will fund Chesapeake Bay Fisheries Research Projects as 12 month cooperative agreements. The cooperative agreement has been determined to be the appropriate funding instrument because of the substantial involvement of NCBO in:

1. Developing program research priorities;

2. Evaluating the performance of the program for effectiveness in meeting regional goals for Chesapeake Bay stock assessments;

3. Monitoring the progress of each funded project;

4. Holding periodic workshops with investigators; and

5. Working with recipients to prepare annual reports summarizing current accomplishments of the Chesapeake Bay Stock Assessment Committee.

Proposals may be considered for continuation beyond the first project and budget period. Proposals may be submitted for up to 3 years. However, funds will be made available for only a 12-month award period and any continuation of the award period will be subject to an approved scope of work, satisfactory progress, a panel review, and available funding to continue the award. No assurances for a funding continuation exists; funding will be at the complete discretion of NOAA.

First-year proposals must include a full description of the activities and budget for the first year as described in this announcement, and should include a summary description of the proposed work for each subsequent year and an estimated budget by line item (without supporting budget detail pages) for review and analysis. If selected for funding, the applicant will be required to submit a full proposal for the second year by the deadline announced in the following year's competitive cycle. Proposals will be evaluated through a review panel process, but will not be subject to competition with new proposals.

C. Cost-sharing Requirements. Applications must reflect the total budget necessary to accomplish the project, including contributions and/or donations. Cost-sharing is not required by the Chesapeake Bay Fisheries Research Program but is strongly encouraged. Federal funds may not be considered matching funds. The nature of the contribution (cash versus in-kind) and the amount of matching funds will be taken into consideration in the final selection process.

IV. How to Apply

A. Eligible Applicants. Eligible applicants are institutions of higher education, hospitals, other nonprofits, commercial organizations, foreign governments, organizations under the jurisdiction of foreign governments, international organizations, state, local and Indian tribal governments. Federal agencies or institutions are not eligible to receive Federal assistance under this notice.

The Department of Commerce National Oceanic and Atmospheric Administration (DOC/NOAA) is strongly committed to broadening the participation of Historically Black Colleges and Universities, Hispanic Serving Institutions, and Tribal Colleges and Universities in its educational and research programs. The DOC/NOAA vision, mission, and goals are to achieve full participation by Minority Serving Institutions (MSI) in order to advance the development of human potential, to strengthen the nation's capacity to provide high-quality education, and to increase opportunities for MSIs to participate in and benefit from Federal Financial Assistance programs. DOC/NOAA encourages all applicants to include meaningful participation of MSIs.

B. Project Start Dates. Projects should not be scheduled to begin before May 1, 2003.

C. Format. 1. Applications for project funding must be complete and must follow the format described in this document.

Applicants must identify the specific research priority or priorities to which they are responding. If the proposal addresses more than one priority, it should list first on the application the priority that most closely reflects the objective of the proposals. For applications containing more than one project, each project component must be identified individually using the format specified in this section. If an application is not in response to a priority, it should so state. Applicants should not assume prior knowledge on the part of NCBO as to the relative merits of the project described in the application.

Applications must not be bound and must be one-sided. Applicants are required to submit 1 signed original and 2 copies of the full proposal. All incomplete applications will be returned to the applicant.

2. Applications must be submitted in the following format:

(a) Cover sheet: An applicant must use OMB Standard Form 424 (revised 7/97) as the cover sheet for each project. Applicants may obtain copies of these forms from the NOAA Chesapeake Bay Office (see ADDRESSES) or from the NOAA Grants Management Division website, http://www.rdc.noaa.gov/grants/.

(b) SF-424A - Budget form: All applicants must use a Standard Budget Form (SF-424A) required for all Federal cooperative agreements.

(c) Form CD-511. All applicants must submit a CD-511, “Certification Regarding Debarment, Suspension and Other Responsibility Matters; Drug-Free Workplace Requirements and Lobbying”.

(d) SF424B. All applicants must submit a SF-424B, “Assurances of Non-Construction Programs”.

(e) CD-436 “Applicant for Funding Assistance”. Must be submitted with applications from non-profit organizations, Joint Ventures, Corporations, Partnerships, and Sole Proprietorships. Officials of state and local governments and officials of accredited colleges and universities are exempt.

(f) Project summary (1-page limit): It is recommended that each proposal contain a summary of not more than one page that provides the following:

(1) Project title.

(2) Project status (new vs. continuation).

(3) Project duration (beginning and ending dates).

(4) Name, address, e-mail, and telephone number of applicant.

(5) Principal Investigator(s) (PI).

(6) Project objectives.

(7) Summary of work to be performed.

(8) Total Federal funds requested.

(9) Cost-sharing to be provided from non-Federal sources, if any. Specify whether contributions are project-related cash or in-kind.

(10) Total project cost.

(g) Project description - (including results from prior support): Each project must be completely and accurately described. The main body of the proposal should be a clear statement of the work to be undertaken and should include: specific objectives and performance measures for the period of the proposed work and the expected significance; relation to longer-term goals of the PI's project; and relation to other work planned, anticipated, or underway under Federal Assistance. The project description must not exceed 15 pages in length. Visual materials, including charts, graphs, maps, photographs and other pictorial presentations are not included in the 15-page limitation. If an application is awarded, NCBO will make all portions of the project description available to the public for review; therefore, NCBO cannot guarantee the confidentiality of any information submitted as part of any project, nor will NCBO accept for consideration any project requesting confidentiality of any part of the project.

Each project must be described as follows:

(1) Identification of problem(s): Describe the specific problem or priority to be addressed (see section II above).

(2) Project objectives: The project description must identify the following three project objectives: (1) Identify the specific priority listed earlier in the solicitation to which the proposed projects respond, if any. (2) Identify the problem/opportunity you intend to address and describe its significance to the fishing community. (3) State what you expect the project to accomplish.

If you are applying to continue a project previously funded under the Chesapeake Bay Fisheries Research Program, describe in detail your progress to date and explain why you need additional funding.

Objectives should be:

(a) Simple and easily understandable.

(b) As specific and quantitative as possible.

(c) Clear with respect to the “what and when” and should avoid the “how and why.

(d) Attainable within the time, money, and human resources available.

(e) Use action verbs that are accomplishment oriented.

(f)Identify specific performance measures.

(3) Project narrative: The project narrative is the scientific or technical action plan of activities that are to be accomplished during each budget period of the project. This description must include the specific methodologies, by project job activity, proposed for accomplishing the proposal's objective(s).

Investigators submitting proposals in response to this announcement are strongly encouraged to develop inter-institutional, inter-disciplinary research teams in the form of single, integrated proposals or as individual proposals that are clearly linked together. Such collaborative efforts will be factored into the final funding decision.

Each project narrative must include the following information:

(a) The applicant's name.

(b) The inclusive dates of the budget period covered under the project narrative.

(c) The title of the proposal.

(d) The scientific or technical objectives and procedures that are to be accomplished during the budget period. A detailed set of objectives and procedures to answer who, what,

how, when, and where. The procedures must be of sufficient detail to enable competent workers to be able to follow them and to complete scheduled activities.

(e) Location of the work.

(f) A list of all project personnel and their responsibilities.

(g) A milestone table that summarizes the procedures that are to be attained in each project month covered by the project narrative. Table format should follow sequential month rather than calendar month (i.e. Project period Month 1, Month 2... versus October, November ...)

(4) Benefits or results expected: Identify and document the results or benefits to be derived from the proposed activities.

(5) Need for Government financial assistance: Demonstrate the need for assistance. Any appropriate database to substantiate or reinforce the need for the project should be included. Explain why other funding sources cannot fund all the proposed work. List all other sources of funding that are or have been sought for the project.

(6) Federal, state and local government activities: List any programs (Federal, state, or local government or activities, including Sea Grant, state Coastal Zone Management Programs, NOAA Oyster Disease Research Program, the state/Federal Chesapeake Bay Program, etc.) this project would affect and describe the relationship between the project and those plans or activities.

(7) Project management: Describe how the project will be organized and managed. Include resumes of principal investigators. List all persons directly employed by the applicant who will be involved with the project. If a consultant and/or subcontractor is selected prior to application submission, include the name and qualifications of the consultant and/or subcontractor and the process used for selection.

(8) Results from prior Chesapeake Bay Fisheries Research support: If any PI or co-PI identified on the project has received Chesapeake Bay Fisheries Research or Chesapeake Bay Stock Assessment Committee (CBSAC) support in the past 5 years, information on the prior award(s) is required. The following information must be provided:

(a) The NOAA award number, amount and period of support;

(b) The title of the project;

(c) Summary of the results of the completed work, including, for a research project, any contribution to the development of human resources in science/biology;

(d) Publications resulting from the award (Reprints may be submitted, and are requested, for documentation if applicable);

(e) Brief description of available data, samples, physical collections and other related research products not described elsewhere; and

(f) If the proposal is for renewed support, a description of the relation of the completed work to the proposed work.

(9) Monitoring of project performance: Identify who will participate in monitoring the project.

(10) Project impacts: Describe how these products or services will be made available to the fisheries and management communities.

(11) Education and outreach: How will this project provide a focused and effective education and outreach strategy regarding NOAA's mission to protect the Nations' natural resources?

(12) Evaluation of project: The applicant is required to provide an evaluation of project accomplishments and progress towards the project objectives and performance measures at the end of each budget period and in the final report. The application must describe the methodology or procedures to be followed to determine technical feasibility, or to quantify the results of the project in promoting increased production, product quality and safety, management effectiveness, or other measurable factors.

(13) Total project costs and budget narrative: Total project costs are the amount of funds required to accomplish what is proposed in the Project Description, and includes contributions and donations. A standard budget form (SF-424A) is available from the offices listed and on the internet (see ADDRESSES). NMFS will not consider fees or profits as allowable costs for grantees.

All costs must be shown in a detailed budget narrative. Explain the calculations and provide a narrative to support specific items or activities, such as personnel/salaries, fringe benefits, travel, equipment, supplies, contract costs, and indirect costs. Additional cost detail may be required prior to a final analysis of overall cost allowability, allocability, and reasonableness. The date, period covered, and findings for the most recent financial audit performed, as well as the name of the audit firm, the contact person, and phone number and address, must be also provided.

(h) Supporting documentation: Provide any required documents and any additional information necessary or useful to the description of the project. The amount of information given in this section will depend on the type of project proposed, but should be no more than 20 pages. The applicant should present any information that would emphasize the value of the project in terms of the significance of the problems addressed. Without such information, the merits of the project may not be fully understood, or the value of the project may be underestimated. The absence of adequate supporting documentation may cause reviewers to question assertions made in describing the project and may result in lower ranking of the project. Information presented in this section should be clearly referenced in the project description.

IV. Review Process, Criteria and Selection Procedures

A. Initial Evaluation of Applications. Applications will be reviewed by NCBO to assure that they meet all requirements of this announcement, including eligibility and relevance to the Chesapeake Bay Fisheries Research Program. Proposals that do not support the technical and management priorities of the Chesapeake Bay, as defined in section II. above will not be considered for funding.

B. Consultation with Experts in the Field of Stock Assessment and Fisheries Research. For applications meeting the requirements of this solicitation, NCBO will conduct an individual technical evaluation (via mail/electronic mail) of each project. This review normally will involve experts from both NOAA and non-NOAA organizations. All comments submitted to NCBO will be taken into consideration in the evaluation of projects. Reviewers will be asked to review independently and to provide a score and comments based on the following four criteria (total of 50 possible points):

1. Problem description and conceptual approach for resolution, especially the applicant's comprehension of the problem(s), familiarity with related work that is completed or ongoing, and the overall concept proposed to resolve the problem(s) (15 points).

2. Soundness of project design/technical approach, especially whether the applicant provided sufficient information to technically evaluate the project and, if so, the strengths and weaknesses of the technical design proposed for problem resolution (20 points).

3. Project management and experience and qualifications of personnel, including organization and management of the project, and the personnel experience and qualifications (5 points).

4. Justification and allocation of the budget in terms of the work to be performed (10 points).

C. Review Panel. NCBO will convene a review panel consisting of at least three regional experts (both NOAA and non-NOAA panelists) in the scientific and management aspects of fisheries research.

1. Projects considered for continuation. The review panel will collectively discuss existing proposals that were awarded with the possibility of continuation. Review panel members will take into consideration the technical reviewer's comments, the successful completion of the project within the previously defined project period, whether the goals of the projects were achieved, and the cost effectiveness of the project. Review panel members will then independently determine whether the projects should be considered for continuation. No consensus advice will be given by the review panel members.

2. New proposals. The review panel will then collectively discuss new proposals as a panel, incorporating the evaluation provided by the technical reviewers. The panel members may then take into account the following: (a) diversity of geographic location, (b) diversity of applicants, (c) proposed budget and (d) Chesapeake Bay management priorities. Each review panel member will then provide a numerical ranking of the submitted new proposals along with suggestions for modifications and/or improvements (i.e., budget, personnel, technical approach, etc.). No consensus advice will be given by the review panel members.

D. Funding Decision. After applications have been evaluated and ranked numerically by the review panel, the Director of the NCBO, in consultation with Program Staff, will determine the projects to be recommended for funding based upon the technical evaluations and panel review comments, and determine the amount of funds available for the program. Numeric ranking will be the primary consideration for deciding which of the proposals will be selected for funding. In making the final selections, NCBO may consider continuation projects, matching leverage, costs, geographical distribution, inter-jurisdictional and inter-institutional collaboration and duplication with other federally funded projects. Accordingly, numerical ranking is not the sole factor in deciding which proposals will be selected for funding. The Director of the NCBO will prepare a written justification for any recommendations for funding that fall outside the ranking order, or for any cost adjustments. The exact amount of funds awarded to each project will be determined in pre-award negotiations among the applicant, the Grants Office, and NCBO staff. Potential grantees should not initiate projects in expectation of Federal funding until an award document signed by an authorized NOAA official has been received.

E. Applications not selected for funding will be held in the Program Office for a period of at least 12 months and then destroyed.

V. Administrative Requirements

A. Obligations of the Applicant

Periodic workshops—Investigators will be expected to prepare for and attend one or two workshops with other Fisheries Research Program researchers to encourage interdisciplinary dialogue and collaboration.

B. Other Requirements

1. Indirect Cost Rate. The budget may include an amount for indirect costs if the applicant has an established indirect cost rate with the Federal government. Regardless of any approved indirect cost rate applicable to the award, the maximum dollar amount of allocable indirect costs for which the Department of Commerce will reimburse the recipient shall be the lesser of the line item amount for the Federal share of indirect costs contained in the approved budget of the award, or the Federal share of the total allocable indirect costs of the award based on the indirect cost rate approved by an oversight or cognizant Federal agency and current at the time the cost was incurred, provided the rate is approved on or before the award end date. However, the Federal share of the indirect costs may not exceed 25 percent of the total proposed direct costs for this Program. Applicants with indirect costs above 25 percent may use the amount above the 25 percent level as cost sharing. If the applicant does not have a current negotiated rate and plans to seek reimbursement for indirect costs, documentation necessary to establish a rate must be submitted within 90 days of receiving an award.

2. Pre-award Notification Requirements. The Department of Commerce Pre-Award Notification Requirements for Grants and Cooperative Agreements contained in the Federal Register notice of October 1, 2001 (66 FR 49917), as amended by the Federal Register notice published October 30, 2002 (67 FR 66109), is applicable to this solicitation.

3. Financial Management Certifications/preaward Accounting Survey—Successful applicants, at the discretion of the NOAA Grants Officer, may be required to have their financial management systems certified by an independent public accountant as being in compliance with Federal standards specified in the applicable Office of Management and Budget (OMB) Circulars prior to execution of the award. Any first-time applicant for Federal grant funds may be subject to a preaward accounting survey by the DOC specified in the applicable OMB Circulars/Code of Federal Regulations prior to execution of the award.

Classification

This action has been determined to be “not significant” for purposes of Executive Order 12866. Applications under this program are subject to Executive Order 12372, “Intergovernmental Review of Federal Programs.”

Pursuant to Section 553(a)(2) of the Administrative Procedure Act, prior notice and an opportunity for public comment are not required for this notification concerning grants, benefits, and contracts. Therefore, a regulatory flexibility analysis is not required for purposes of the Regulatory Flexibility Act.

This document contains collection-of-information requirements subject to the Paperwork Reduction Act. The use of Standard Forms (SF) 424, 424A, and 424B have been approved by OMB under their respective control numbers 0348-0043, 0348-0044, and 0348-0040. Notwithstanding any other provision of law, no person is required to respond to, nor shall any person be subject to a penalty for failure to comply with, a collection of information subject to the Paperwork Reduction Act, unless that collection displays a currently valid OMB control number.

Dated: January 7, 2003.
Rebecca Lent,
Deputy Assistant Administrator for Regulatory Programs, National Marine Fisheries Service.

[FR Doc. 03-703 Filed 1-13-03; 8:45 am]

BILLING CODE 3510-22-S